DEPARTMENT OF THE INTERIOR

Bureau of Land Management

[LLCAC07000 L1310000 EJ0000 LXSIGEOT0000]

Notice of Intent To Prepare an Environmental Impact Statement and Environmental Impact Report for the Proposed Casa Diablo IV Geothermal Development Project, Mammoth Lakes, Mono County, CA

AGENCY: Bureau of Land Management, Interior.

ACTION: Notice of intent.

SUMMARY: In compliance with the National Environmental Policy Act of 1969, as amended, the Federal Land Policy and Management Act of 1976, as amended, and the California Environmental Quality Act of 1970, the Bureau of Land Management (BLM) Bishop Field Office, Bishop, California and the Great Basin Unified Air Pollution Control District (GBUAPCD) (a California state agency) intend to prepare a joint Environmental Impact Statement (EIS)/Environmental Impact Report (EIR) to consider approval of the development of a proposed 33-megawatt (MW) geothermal power plant and associated well field, internal access roads, pipelines, and a transmission line on public and private lands near the Town of Mammoth Lakes, California, and by this notice, are announcing the beginning of the scoping process to solicit public comments and identify issues.

DATES: This notice initiates the public scoping processes for the EIS/EIR. Comments on issues may be submitted in writing until April 25, 2011. The date(s) and location(s) of any scoping meetings will be announced at least 15 days in advance through local media, newspapers and the BLM Web site at: http://www.blm.gov/ca/st/en/fo/bishop.html. In order to be included in the Draft EIS/EIR, all comments must be received prior to the close of the scoping period or 15 days after the last public meeting, whichever is later. We will provide additional opportunities for public participation upon publication of the Draft EIS/EIR.

ADDRESSES: You may submit comments related to the Casa Diablo IV Geothermal Development Project by any of the following methods:

• Web site: http://www.blm.gov/ca/st/en/fo/bishop.html

• E-mail: cabipubcom@ca.blm.gov

• Fax: 760-872-5050

• Mail: BLM Bishop Field Office, 351 Pacu Lane, Suite 100, Bishop, California 93514, Attn: Casa Diablo IV Development Project, C/O Steven Nelson, Project Manager.

Documents pertinent to this proposal may be examined at the BLM Bishop Field Office and the Mono County Library at 400 Sierra Park Road, Mammoth Lakes, California.

FOR FURTHER INFORMATION CONTACT: For further information and/or to have your name added to our mailing list, contact Margie DeRose, Minerals and Geology Program Manager, Inyo National Forest, telephone (760) 873-2424; or mail to: Steven Nelson, Project Manager, BLM Bishop Field Office, 351 Pacu Lane, Suite 100, Bishop, California 93514; or e-mail cabipubcom@ca.blm.gov.

SUPPLEMENTARY INFORMATION: Mammoth Pacific, L.P. (MPLP) has submitted an application to the BLM to build and operate the Casa Diablo IV Geothermal Development Project in the immediate vicinity of the existing MPLP geothermal projects near the intersection of California State Route 203 and U.S. Highway 395 approximately 3 miles east of Mammoth Lakes, California. The proposed project would be located on Inyo National Forest lands and adjacent private lands within portions of Federal geothermal leases CACA-11667, CACA-11672 and CACA-14408. The proposed project would include construction of a new 33-MW binary geothermal power plant, which would be the fourth geothermal plant in the vicinity; up to 16 wells for production and reinjection, drilled to an approximate 1,600 to 2,000-ft depth; and associated pipelines. A 500-foot transmission line is proposed to interconnect the new power plant to the existing Southern California Edison (SCE) substation at Substation Road. The proposed Casa Diablo IV plant, access roads, well pads, pipelines and transmission line would occupy approximately 100 acres. Of the 16 proposed production/injection well locations, 14 were previously analyzed and approved as slim holes and exploration wells in EA-170-02-15 (2001) and EA-170-05-04 (2005). Three of these exploration wells have already been drilled as of the time of the publication of this notice. The proposed well field area contains two existing production wells and associated pipelines that currently serve three existing power plants in the area.

The leases being developed are already part of a geothermal unit, which is currently producing energy sufficient to operate three existing geothermal plants in the area: The 10-MW “MP-1/G1 plant,” the 15-MW “MP-II/G2 plant,” and the 15-MW “PLES-I/G3 plant.”

The BLM Bishop Field Office will be the lead Federal agency responsible for coordinating the environmental analysis for the Case Diablo IV project under the National Environmental Policy Act of 1969 (NEPA). Authorization of the proposed project would require approval from the BLM as the lead Federal agency responsible for geothermal leasing and development on Federal lands, in coordination with the U.S. Forest Service (FS) as a cooperating agency responsible for surface management and uses on Inyo National Forest lands within the project area. If approved, permits and licenses to be issued by the BLM would include approval of the Plan of Utilization, Geothermal Sundry Notices, Geothermal Drilling Permits, a Commercial Use Permit, a Site License and a Facility Construction Permit. The BLM authorizations would include Conditions of Approval for surface use and occupancy based on recommendations from the FS to ensure consistency with the Inyo National Forest Land and Resource Management Plan. The FS would issue a special use permit for the transmission line. For the BLM, the Bishop Field Manager is the authorized officer. For the FS, the Inyo National Forest Supervisor is the authorized officer. The GBUAPCD will be the lead state agency responsible for coordinating the environmental analysis under the California Environmental Quality Act. The GBUAPCD would issue an Authority to Construct Permit and a Permit to Operate. The approving official is the Air Pollution Control Officer.

The purpose of the public scoping process is to determine relevant issues that will influence the scope of the environmental analysis, including alternatives, and guide the process for developing the EIS/EIR. The BLM, FS and GBUAPCD have identified the following preliminary issues: air quality; social and economic impacts; groundwater quantity and quality; surface water quantity and quality; geology and soils; plants and animals; cultural resources; transportation; noise and vibration; lands with wilderness characteristics; and recreation.

The BLM will use and coordinate the NEPA commenting process to satisfy the public involvement process for Section 106 of the National Historic Preservation Act (16 U.S.C. 470f) as provided for in 36 CFR 800.2(d)(3). Native American tribal consultations will be conducted in accordance with policy, and tribal concerns will be given due consideration, including impacts on any Indian trust assets. Federal, State, and local agencies, along with other stakeholders that may be interested or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7.

Bernadette Lovato,
Bishop Field Manager.

[FR Doc. 2011-7012 Filed 3-24-11; 8:45 am]

BILLING CODE 4310-40-P